NUCLEAR REGULATORY COMMISSION

[NRC-2009-0157]

Extension of Public Scoping Period for the Environmental Impact Statement for the Proposed General Electric—Hitachi Global Laser Enrichment Facility

AGENCY: Nuclear Regulatory Commission.

ACTION: Extension of Public Comment Period.

SUMMARY: The Nuclear Regulatory Commission (NRC) is extending the public comment period on the scope of the Environmental Impact Statement (EIS) for the proposed General Electric—Hitachi (GEH) Global Laser Enrichment (GLE) facility in New Hanover County, North Carolina, to August 31, 2009. The original Notice of Intent to Prepare an EIS, which was published in the Federal Register on April 9, 2009 (74 FR 16237), indicated public comments should be submitted by June 8, 2009.

On June 26, 2009, GEH submitted additional information to complete an application for a license to authorize the construction and operation of the proposed uranium enrichment facility. The public comment period on the scope of the EIS is being extended to allow members of the public to review publicly-available portions of the license application during the scoping period for the EIS. Members of the public are invited and encouraged to submit comments regarding the appropriate scope and content of the EIS.

DATES: NRC is extending the public comment period on the scope of the EIS to August 31, 2009. Comments should be postmarked by that date to ensure consideration. Comments mailed after that date will be considered to the extent practical.

ADDRESSES: Comments may be sent electronically to GLE.EIS@nrc.gov. Comments also may be sent to the Chief, Rulemaking and Directives Branch, Division of Administrative Services, Mail Stop TWB 5B01M, Office of Administration, U.S. Nuclear Regulatory Commission, Washington, DC 20555-0001. Please note Docket No. 70-7016 when submitting comments.

FOR FURTHER INFORMATION CONTACT: For general or technical information associated with the licensing review of the GLE application, please contact Tim Johnson at (301) 492-3121 or Timothy.Johnson@NRC.gov. For general information on the NRC environmental review process or the environmental review related to the GLE application, please contact Christianne Ridge at (301) 415-5673 or Christianne.Ridge@NRC.gov.

Information and documents associated with the proposed GLE facility, including the Environmental Report (ER) submitted by GEH on January 30, 2009, are available for public review through NRC's electronic reading room at http://www.nrc.gov/reading-rm/adams.html. Members of the public may access the applicant's ER in NRC's Agencywide Documents Access and Management System (ADAMS) at accession number ML090910573 or on NRC's materials environmental reviews Webpage at http://www.nrc.gov/materials/active-nepa-reviews.html.

A copy of the applicant's ER is available for public inspection at the New Hanover County Library, located at 201 Chestnut Street, Wilmington, North Carolina 28401. Documents also may be obtained from NRC's Public Document Room at U.S. Nuclear Regulatory Commission Headquarters, 11555 Rockville Pike (first floor), Rockville, Maryland.

SUPPLEMENTARY INFORMATION: On January 30, 2009, GEH submitted an ER that addresses the impacts of constructing, operating, and decommissioning a laser-based uranium enrichment facility. GEH proposes to locate the facility on the existing General Electric Company (GE)/Global Nuclear Fuel-Americas (GNF-A) site near Wilmington, in New Hanover County, North Carolina. The NRC, in accordance with the National Environmental Policy Act of 1969, as amended (NEPA), and NRC regulations at 10 CFR Part 51, will prepare an EIS evaluating this proposed action.

On June 26, 2009, GEH completed the license application by submitting additional information related to facility safety and security in accordance with the Atomic Energy Act. NRC will conduct a 30-day acceptance review to determine whether it will accept the application for detailed review. If NRC accepts the application, publicly-available portions of the license application will be made available in ADAMS. In addition, the project Web site at http://www.nrc.gov/materials/fuel-cycle-fac/laser.html will indicate how to access publicly-available portions of the applicant's license application. Portions of the license application that contain proprietary, classified, security-related or export-controlled information will be withheld from public availability. The public comment period on the scope of the EIS is being extended to allow members of the public to review publicly-available portions of the license application during the scoping period.

Dated at Rockville, Maryland, this 17th day of July 2009.
For the Nuclear Regulatory Commission.
Patrice M. Bubar,
Director, Environmental Protection and Performance Assessment Directorate, Division of Waste Management and Environmental Protection, Office of Federal and State Materials and Environmental Management Programs.

[FR Doc. E9-17687 Filed 7-23-09; 8:45 am]

BILLING CODE 7590-01-P